SMALL BUSINESS ADMINISTRATION

CommunityExpress Pilot Program

AGENCY: Small Business Administration (SBA).

ACTION: Notice of Pilot Program extension.

SUMMARY: This notice announces SBA's extension of the CommunityExpress Pilot Program until December 31, 2007. This extension will allow time for the Agency to complete its analysis of this program and also complete internal discussions regarding potential modifications and enhancements.

DATES: The CommunityExpress Pilot Program is extended under this notice until December 31, 2007.

FOR FURTHER INFORMATION CONTACT: Charles Thomas, Office of Financial Assistance, U.S. Small Business Administration, 409 Third Street, SW., Washington, DC 20416; Telephone (202) 205-6490; charles.thomas@sba.gov.

SUPPLEMENTARY INFORMATION: The CommunityExpress Pilot Program was established in 1999 as a subprogram of the Agency's SBAExpress Program. Lenders approved for participation in CommunityExpress are authorized to use the expedited loan processing procedures in place for the SBAExpress Program, but the loans approved under this Program must be to distressed or underserved markets. To encourage lenders to make these loans, SBA provides its standard 75-85 percent guaranty, which contrasts to the 50 percent guaranty the Agency provides under SBAExpress. However, under CommunityExpress participating lenders must arrange, and when necessary, pay for appropriate technical assistance for any borrowers under the program. Maximum loan amounts under this Program are limited to $250,000. SBA previously extended CommunityExpress until March 31, 2007 (71 FR 74982), to consider possible changes and enhancements to the Program.

The further extension of this program until December 31, 2007, will allow the SBA to complete its analysis and internal discussions of possible changes and enhancements to the program. It will also allow SBA to further consult with its lending partners, the small business community and its oversight authorities about the Program.

(Authority: 13 CFR 120.3)

Janet A. Tasker,
Acting Director Office of Financial Assistance.

[FR Doc. E7-5138 Filed 3-20-07; 8:45 am]

BILLING CODE 8025-01-P